DEPARTMENT OF JUSTICE

Drug Enforcement Administration

Manufacturer of Controlled Substances; Notice of Application

Pursuant to § 1301.33(a) of Title 21 of the Code of Federal Regulations (CFR), this is notice that on January 14, 2003, Mallinckrodt, Inc., Mallinckrodt & Second Streets, St. Louis, Missouri 63147, made application by renewal to the Drug Enforcement Administration (DEA) for registration as a bulk manufacturer of the basic classes of controlled substance listed below:

Drug | Schedule
Amphetamine (1100) | II
Methamphetamine (1105) | II
Methylphenidate (1724) | II
Codeine (9050) | II
Codeine-N-oxide (9053) | I
Diprenorphine (9058) | II
Etorphine HCl (9059) | II
Dihydrocodeine (9120) | II
Oxycodone (9160) | II
Dihydromorphine (9145) | I
Hydromorphone (9150) | II
Difenoxin (9168) | I
Diphenoxylate (9170) | II
Benzoylecgonine (9180) | II
Ecgonine (9180) | II
Hydrocodone (9193) | II
Heroin (9200) | I
Levorphanol (9220) | II
Meperidine (9230) | II
Methadone (9250) | II
Methadone intermediate (9254) | II
Metopon (9260) | II
Dextropropoxyphene, bulk (9273) | II
Morphine (9300) | II
Morphine-N-oxide (9307) | I
Nicomorphine (9312) | I
Normorphine (9313) | I
Thebaine (9333) | II
Opium extracts (9610) | II
Opium fluid extract (9620) | II
Norlevorphanol (9634) | I
Opium tincture (9630) | II
Opium, powdered (9639) | II
Opium, granulated (9640) | II
Levo-alphacetylmethadol (9648) | II
Oxymorphone (9652) | II
Alfentanil (9737) | II
Sufentanil (9740) | II
Fentanyl (9801) | II
Tetrahydrocannabinols (7370) | I

The firm plans to manufacture the controlled substances as analytical reference standards to be used internally and for sale to other companies.

Any other such applicant and any person who is presently registered with DEA to manufacture such substances may file comments or objections to the issuance of the proposed registration.

Any such comments or objections may be addressed, in quintuplicate, to the Deputy Assistant Administrator, Office of Diversion Control, Drug Enforcement Administration, United States Department of Justice, Washington, DC 20537, Attention: Drug Operations Section, Domestic Drug Unit (ODOD) and must be filed no later than 60 days from publication.

Dated: March 14, 2003.
Laura M. Nagel,
Deputy Assistant Administrator, Office of Diversion Control, Drug Enforcement Administration.

[FR Doc. 03-7826 Filed 4-1-03; 8:45 am]

BILLING CODE 4410-09-M